SECURITIES AND EXCHANGE COMMISSION

[Release No. 34-60320; File No. SR-CTA-2009-01]

Consolidated Tape Association; Notice of Filing and Immediate Effectiveness of the Twelfth Charges Amendment to the Second Restatement of the Consolidated Tape Association Plan

July 16, 2009.

Pursuant to Section 11A of the Securities Exchange Act of 1934 (“Act”),¹ and Rule 608 thereunder,² notice is hereby given that on July 13, 2009, the Consolidated Tape Association (“CTA”) Plan Participants (“Participants”) ³ filed with the Securities and Exchange Commission (“Commission”) a proposal to amend the Second Restatement of the CTA Plan (the “CTA Plan”). The proposal represents the twelfth charges amendment to the Plan (“Twelfth Charges Amendment”) and reflects changes unanimously adopted by the Participants. The Twelfth Charges Amendment would delete the ticker display charge from Schedule A-1 of Exhibit E of the CTA Plan.

¹ 15 U.S.C. 78k-1.

² 17 CFR 242.608.

³ Each Participant executed the proposed amendment. The Participants are the American Stock Exchange LLC (n/k/a NYSE Amex LLC); Boston Stock Exchange, Inc. (n/k/a NASDAQ OMX BX, Inc.); Chicago Board Options Exchange, Incorporated; Chicago Stock Exchange, Inc.; Financial Industry Regulatory Authority, Inc., International Securities Exchange, LLC; The NASDAQ Stock Market LLC; National Stock Exchange, Inc.; New York Stock Exchange LLC; NYSE Arca, Inc.; and Philadelphia Stock Exchange, Inc. (n/k/a NASDAQ OMX PHLX, Inc.).

Pursuant to Rule 608(b)(3)(ii) under the Act,⁴ the Participants designated the Amendment as concerned solely with the administration of the Plan. As a result, the Amendment has become effective upon filing with the Commission. At any time within 60 days of the filing of the Amendment, the Commission may summarily abrogate the Amendment and require that the Amendment be refiled in accordance with paragraph (a)(1) of Rule 608 and reviewed in accordance with paragraph (b)(2) of Rule 608, if it appears to the Commission that such action is necessary or appropriate in the public interest, for the protection of investors, or the maintenance of fair and orderly markets, to remove impediments to, and perfect the mechanisms of, a national market system or otherwise in furtherance of the purposes of the Act. The Commission is publishing this notice to solicit comments from interested persons on the proposed Twelfth Charges Amendment to the CTA Plan.

⁴ 17 CFR 242.608(b)(3)(ii).

I. Rule 608(a)

A. Description and Purpose of the Amendment

Schedule A-1 of Exhibit E to the CTA Plan sets forth the fees applicable to CTA Network A market data display services. The amendment proposes to delete from that schedule the monthly $30 nonprofessional subscriber ticker display charge. That charge applied to a nonprofessional subscriber's receipt of a Network A ticker feed from a ticker network that Network A formerly maintained. Network A phased out that ticker network a number of years ago, but the Participants did not delete the charge from the fee schedule once they completed the phaseout. The Network A Participants have not imposed the nonprofessional subscriber ticker fee since then.

The text of the proposed Amendment is available on the CTA's Web site (http://www.nysedata.com/cta), at the principal office of the CTA, and at the Commission's Public Reference Room.

B. Additional Information Required by Rule 608(a)

1. Governing or Constituent Documents

Not applicable.

2. Implementation of the Amendments

Because the Amendment constitutes a “Ministerial Amendment” under clause (ii) of Section IV(b) of the CTA Plan, the Chairman of CTA may submit this amendment to the Commission on behalf of the CTA Plan Participants. Because the Participants designate the Amendment as concerned solely with the administration of the Plan, the Amendment becomes effective upon filing with the Commission.

3. Development and Implementation Phases

Not applicable.

4. Analysis of Impact on Competition

The proposed Amendment does not impose any burden on competition that is not necessary or appropriate in furtherance of the purposes of the Act. The Participants do not believe that the proposed Amendment introduces terms that are unreasonably discriminatory for the purposes of Section 11A(c)(1)(D) of the Act.⁵

⁵ 15 U.S.C. 78k-1(c)(1)(D).

5. Written Understanding or Agreements Relating to Interpretation of, or Participation in, Plan

Not applicable.

6. Approval by Sponsors in Accordance With Plan

See Item I.B(2) above.

7. Description of Operation of Facility Contemplated by the Proposed Amendment

a. Terms and Conditions of Access

Not applicable.

b. Method of Determination and Imposition, and Amount of, Fees and Charges

See Item I.A above.

c. Method of Frequency of Processor Evaluation

Not applicable.

d. Dispute Resolution

Not applicable.

II. Rule 601(a)

A. Equity Securities for Which Transaction Reports Shall be Required by the Plan

Not applicable.

B. Reporting Requirements

Not applicable.

C. Manner of Collecting, Processing, Sequencing, Making Available and Disseminating Last Sale Information

Not applicable.

D. Manner of Consolidation

Not applicable.

E. Standards and Methods Ensuring Promptness, Accuracy and Completeness of Transaction Reports

Not applicable.

F. Rules and Procedures Addressed to Fraudulent or Manipulative Dissemination

Not applicable.

G. Terms of Access to Transaction Reports

Not applicable.

H. Identification of Marketplace Execution

Not applicable.

III. Solicitation of Comments

Interested persons are invited to submit written data, views, and arguments concerning the foregoing, including whether the proposed Plan Amendment is consistent with the Act. Comments may be submitted by any of the following methods:

Electronic Comments

• Use the Commission's Internet comment form (http://www.sec.gov/rules/sro.shtml); or

• Send an e-mail to rule-comments@sec.gov. Please include File Number SR-CTA-2009-01 on the subject line.

Paper Comments

• Send paper comments in triplicate to Elizabeth M. Murphy, Secretary, Securities and Exchange Commission, 100 F Street, NE., Washington, DC 20549-1090.

All submissions should refer to File Number SR-CTA-2009-01. This file number should be included on the subject line if e-mail is used. To help the Commission process and review your comments more efficiently, please use only one method. The Commission will post all comments on the Commission's Internet Web site (http://www.sec.gov/rules/sro.shtml). Copies of the submission, all subsequent amendments, all written statements with respect to the proposed Plan Amendment that are filed with the Commission, and all written communications relating to the proposed Plan Amendment between the Commission and any person, other than those that may be withheld from the public in accordance with the provisions of 5 U.S.C. 552, will be available for inspection and copying in the Commission's Public Reference Room, 100 F Street, NE., Washington, DC 20549, on official business days between the hours of 10 a.m. and 3 p.m. Copies of such filing also will be available for inspection and copying at the principal office of the CTA. All comments received will be posted without change; the Commission does not edit personal identifying information from submissions. You should submit only information that you wish to make publicly available. All submissions should refer to File Number SR-CTA-2009-01 and should be submitted on or before August 17, 2009.

For the Commission, by the Division of Trading and Markets, pursuant to delegated authority.⁶
Florence E. Harmon,
Deputy Secretary.

⁶ 17 CFR 200.30-3(a)(12).

[FR Doc. E9-17763 Filed 7-24-09; 8:45 am]

BILLING CODE 8010-01-P